DEPARTMENT OF COMMERCE

International Trade Administration

[A-549-833]

Citric Acid and Certain Citrate Salts From Thailand: Final Results of Antidumping Duty Administrative Review; 2022-2023

AGENCY: Enforcement and Compliance, International Trade Administration, Department of Commerce.

SUMMARY: The U.S. Department of Commerce (Commerce) determines that certain producers/exporters subject to this administrative review did not make sales of subject merchandise at less than normal value (NV) during the July 1, 2022, through June 30, 2023, period of review (POR).

DATES: Applicable November 29, 2024.

FOR FURTHER INFORMATION CONTACT: Joy Zhang or Anjali Mehindiratta, AD/CVD Operations, Office III, Enforcement and Compliance, International Trade Administration, U.S. Department of Commerce, 1401 Constitution Avenue NW, Washington, DC 20230; telephone: (202) 482-1168 or (202) 482-9127, respectively.

SUPPLEMENTARY INFORMATION:

Background

On August 1, 2024, Commerce published the preliminary results of the 2022-2023 administrative review of the antidumping duty order on citric acid and certain citrate salts (citric acid) from Thailand ¹ in the Federal Register and invited interested parties to comment.² We received no comments from interested parties on the Preliminary Results, and we have made no changes to the Preliminary Results. Accordingly, no decision memorandum accompanies this Federal Register notice. The Preliminary Results are hereby adopted in these final results. Commerce conducted this administrative review in accordance with section 751(a) of the Tariff Act of 1930, as amended (the Act).

¹ See Citric Acid and Certain Citrate Salts from Belgium, Colombia and Thailand: Antidumping Duty Orders, 83 FR 35214 (July 25, 2018) (Order).

² See Citric Acid and Certain Citrate Salts from Thailand: Preliminary Results of Antidumping Duty Administrative Review; 2022-2023, 89 FR 62718 (August 1, 2024) (Preliminary Results), and accompanying Preliminary Decision Memorandum.

Scope of the Order

The products covered by this Order include all grades and granulation sizes of citric acid, sodium citrate, and potassium citrate in their unblended forms, whether dry or in solution, and regardless of packaging type. For a full description of the scope of the Order, see the Preliminary Decision Memorandum.

Rate for Non-Selected Company

The Act and Commerce's regulations do not directly address the establishment of a rate to be applied to individual companies not selected for examination when Commerce limits its examination in an administrative review pursuant to section 777A(c)(2) of the Act. Generally, Commerce looks to section 735(c)(5) of the Act, which provides instructions for calculating the all-others rate in a market economy investigation, for guidance when calculating the rate for companies which were not selected for individual review in an administrative review. Under section 735(c)(5)(A) of the Act, the all-others rate is normally “an amount equal to the weighted average of the estimated weighted-average dumping margins established for exporters and producers individually investigated, excluding any zero or de minimis margins, and any margins determined entirely {on the basis of facts available}.”

In this administrative review, we calculated dumping margins of zero percent for both mandatory respondents: COFCO Biochemical (Thailand) Co., Ltd. (COFCO) and Sunshine Biotech International Co., Ltd. (Sunshine). Thus, in accordance with the expected method, and consistent with the U.S. Court of Appeals for the Federal Circuit's decision in Albemarle,³ we assign to Xitrical Group Co. LTD., the sole non-selected company under review, a zero percent rate, based on the rates calculated for the two mandatory respondents.

³ See Albemarle Corp. v. United States, 821 F.3d 1345, 1352 (Fed. Cir. 2016) (Albemarle) (holding that Commerce may only use “other reasonable methods” if it reasonably concludes that the expected method is “not feasible” or “would not be reasonably reflective of potential dumping margins”).

Final Results of Review

We determine that the following weighted-average dumping margins exist for the period July 1, 2022, through June 30, 2023:

Producer/exporter | Weighted- Average dumping margin (percent)
COFCO Biochemical (Thailand) Co., Ltd | 0.00
Sunshine Biotech International Co., Ltd | 0.00
Xitrical Group Co. LTD | 0.00

Disclosure

Normally, Commerce discloses to interested parties the calculations of the final results of an administrative review within five days of a public announcement or, if there is no public announcement, within five days of the date of publication of the notice of final results in the Federal Register, in accordance with 19 CFR 351.224(b). However, because we have made no changes to the Preliminary Results, there are no calculations to disclose.

Assessment Rates

Consistent with section 751(a)(2)(C) of the Act and 19 CFR 351.212(b), upon completion of the administrative review, Commerce shall determine, and U.S. Customs and Border Protection (CBP) shall assess, antidumping duties on all appropriate entries of subject merchandise covered this review. Because the respondents' weighted-average dumping margins or importer-specific assessment rates are zero or de minimis in the final results of review, we intend to instruct CBP to liquidate entries without regard to antidumping duties.⁴ The final results of this administrative review shall be the basis for the assessment of antidumping duties on entries of merchandise covered by the final results of this review and for future deposits of estimated duties, where applicable.⁵

⁴ See Antidumping Proceedings: Calculation of the Weighted-Average Dumping Margin and Assessment Rate in Certain Antidumping Proceedings; Final Modification, 77 FR 8101, 8102-03 (February 14, 2012); see also 19 CFR 351.106(c)(2).

⁵ See section 751(a)(2)(C) of the Act.

In accordance with Commerce's “automatic assessment” practice, for entries of subject merchandise during the POR produced by each respondent which did not know that its merchandise was destined for the United States, we will instruct CBP to liquidate entries not reviewed at the all-others rate established in the original less-than-fair value (LTFV) investigation (i.e., 11.25 percent) ⁶ if there is no rate for the intermediate company(ies) involved in the transaction.

⁶ See Order, 83 FR at 35215.

Commerce intends to issue assessment instructions to CBP no earlier than 35 days after the date of publication of these final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of the notice of final results of administrative review for all shipments of citric acid from Thailand entered, or withdrawn from warehouse, for consumption on or after the date of publication as provided for by section 751(a)(2)(C) of the Act: (1) the cash deposit rate for the companies listed above will be equal to the weighted-average dumping margin established in the final results of this administrative review (i.e., 0.00 percent); (2) for merchandise exported by a company not covered in this review but covered in a prior completed segment of the proceeding, the cash deposit rate will continue to be the company-specific rate published in the completed segment for the most recent period; (3) if the exporter is not a firm covered in this review or another completed segment of this proceeding, but the producer is, then the cash deposit rate will be the company-specific rate established for the completed segment for the most recent period for the producer of the merchandise; and (4) the cash deposit rate for all other producers or exporters will continue to be 11.25 percent, the all-others rate established in the less-than-fair-value investigation.⁷ These cash deposit requirements, when imposed, shall remain in effect until further notice.

⁷ Id.

Notification to Importers

This notice serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Administrative Protective Order

This notice also serves as a final reminder to parties subject to an administrative protective order (APO) of their responsibility concerning the return or destruction of proprietary information disclosed under APO in accordance with 19 CFR 351.305(a)(3). Timely written notification of the return or destruction of APO materials or conversion to judicial protective order is hereby requested. Failure to comply with the regulations and terms of an APO is a violation subject to sanction.

Notification to Interested Parties

Commerce is issuing and publishing the final results of this review in accordance with sections 751(a)(1) and 777(i)(1) of the Act, and 19 CFR 351.221(b)(5).

Dated: November 22, 2024.
Abdelali Elouaradia,
Deputy Assistant Secretary for Enforcement and Compliance.

[FR Doc. 2024-28023 Filed 11-27-24; 8:45 am]

BILLING CODE 3510-DS-P